DEPARTMENT OF HOMELAND SECURITY

Transportation Security Administration

Intent To Request Approval From OMB of One Public Collection of Information; Port Security Training Exercise Program (PortSTEP)

AGENCY: Transportation Security Administration (TSA), DHS.

ACTION: Notice to withdraw and supersede previous notice.

SUMMARY: This notice serves to withdraw the previous Federal Register notice on this subject, published May 25, 2005 (70 FR 30132), and supersedes all information contained in that notice. TSA is coordinating the collection of information concerning surface transportation modes within the nation's public and private port terminals and facilities, in order to develop a full understanding of critical links and dependences to maritime transportation modes within each port. TSA invites public comment on the new information collection requirements abstracted below that will be submitted to the Office of Management and Budget (OMB) for approval in compliance with the Paperwork Reduction Act.

DATES: Send your comments by February 21, 2006.

ADDRESSES: Comments may be mailed or delivered to Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION: In accordance with the Paperwork Reduction Act of 1995, (44 U.S.C. 3501 et seq.), an agency may not conduct or sponsor, and a person is not required to respond to, a collection of information unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Purpose of Data Collection

The Department of Homeland Security (DHS) directed the Transportation Security Administration (TSA) to develop and implement a security response training exercise program that addresses security measures across all transportation modes. Unlike existing response exercise programs, this security exercise program will address the unique aspects of prevention and the measures needed to counter credible security threats pre-incident, in coordination with on-going response efforts. TSA, in collaboration with the U.S. Coast Guard (USCG), has chosen the maritime transportation modes as the prototype sector to develop such a program. The USCG holds lead responsibility for regulating security in maritime transportation, exercised substantially through the Area Maritime Security Committees and Plans. TSA supports USCG in this mission, contributing particular expertise in security across all transportation modes. As part of this effort, TSA and the USCG have identified a need for information regarding the type, amount, and complexity of surface transportation assets (for example: Rail, truck, etc.) and infrastructure located within the nation's ports.

The ports of the United States are unique entities in that they form a nexus between maritime and surface transportation modes of the Nation's transportation network. TSA is focusing efforts on the areas where surface transportation modes intersect at the Nation's ports, while the Coast Guard is focused on the waterside and maritime transportation aspects of the ports. TSA and USCG are interested in learning more about the inter-dependence and economic importance of these modal assets as they come together in the port environment. TSA was able to locate several sources of data. However, most available data did not include information or assessments specific to the surface transportation modes and their inter-dependence with the maritime transportation modes. Although some information exists for public port authorities, information is not readily available for private terminals. A Port Security Training Exercise Program (PortSTEP) Internet Web site is being developed as part of this program. Data will be collected from registered users as described further below.

Description of Data Collection

TSA will conduct the information collection via the Internet, using a web-based survey. The information collection will target public and private ports and terminals nationwide to capture data concerning the interdependency and importance of linkages between the maritime and surface transportation modes, in and around the port environment. This is a voluntary collection of information. Port directors and managers may choose to obtain input from relevant port stakeholders in the area, including USCG Area Maritime Security Committees, State and local transportation security managers, emergency managers and emergency responders, private port service providers, and industry and labor associations. However, this is not required. TSA estimates the total number of respondents for the PortSTEP survey to be 360, and the estimated annual reporting burden to be 150 hours annually.

TSA and USCG PortSTEP Project Officers may need to re-administer this survey periodically after 2007 to refine and refresh data collections. However, this requirement is not certain. PortSTEP Project Officers will provide an Internet Web site for registered and non-registered users to share data and provide releasable information to the public. Users include members of the maritime community, such as Federal, State, and local agency representatives and industry individuals. User registrations will be required for access to certain data shared and collected, which may be sensitive in nature. Also, users must submit personal information so that TSA can verify an individual's identity and establish the access accounts to the registered user's site.

Use of Results

TSA will compile data from the survey results and assign weights to produce a score that TSA and USCG PortSTEP Project Officers will use to determine the appropriate level of TSA involvement in the management, conduct, and oversight of training response exercises conducted with surface transportation in the port area. TSA will also use the information collected to group ports based on their similarities, characteristics, and the degree of surface transportation exposure, in order to help focus the design, conduct, and evaluation of PortSTEP responses on the surface transportation issues. Much can be learned about the interactions and coordination between the surface and maritime transportation modes if the series of response exercises in PortSTEP are designed, conducted, and evaluated with this in mind. TSA and USCG will use the findings to refine and customize future PortSTEP iterations to the needs of the transportation mode being exercised. TSA and USCG plan to share and discuss this data with other agencies within the Federal Government.

Data collected from registered Web site users will be retained to verify account status and access permissions. TSA will assign users an account to determine access to certain information, and group users for administrative purposes. All data will be stored securely.

Issued in Arlington, Virginia, on December 16, 2005.
Lisa S. Dean,
Privacy Officer.

[FR Doc. E5-7684 Filed 12-21-05; 8:45 am]

BILLING CODE 4910-52-P